DEPARTMENT OF HOMELAND SECURITY

Coast Guard

33 CFR Part 117

[Docket No. USCG-2016-0232]

Drawbridge Operation Regulation; Shark River (South Channel), Avon, NJ

AGENCY: Coast Guard, DHS.

ACTION: Notice of deviation from drawbridge regulation.

SUMMARY: The Coast Guard has issued a temporary deviation from the operating schedule that governs the Railroad Bridge (NJT) across the Shark River (South Channel), mile 0.9, at Avon, NJ. This deviation is necessary to perform urgent bridge repairs. This deviation allows the bridge to remain in the closed-to-navigation position.

DATES: This deviation is effective from 7 a.m. to 6 p.m. on April 9, 2016.

ADDRESSES: The docket for this deviation, [USCG-2016-0232] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: New Jersey Transit (NJT), that owns and operates the Railroad Bridge (NJT), has requested a temporary deviation from the current operating regulations to perform urgent repairs to the buffers which protect the bridge locks from damage during opening and closing movements. The bridge is a single bascule draw bridge and has a vertical clearance in the closed position of 8 feet above mean high water.

The current operating schedule is set out in 33 CFR 117.751. Under this temporary deviation, the bridge will remain in the closed-to-navigation position from 7 a.m. to 6 p.m. on April 9, 2016 and will open-to-navigation with at least one hour advance notice.

The Shark River is used by a variety of vessels including small U.S. government and public vessels, small commercial vessels, tug and barge, and recreational vessels. The Coast Guard has carefully considered the nature and volume of vessel traffic on the waterway in publishing this temporary deviation.

Vessels able to pass through the bridge in the closed position may do so at anytime. The bridge will be able to open for emergencies with at least one hour advance notice and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: March 24, 2016.
Hal R. Pitts,
Bridge Program Manager, Fifth Coast Guard District.

[FR Doc. 2016-07357 Filed 3-31-16; 8:45 am]

BILLING CODE 9110-04-P